DEPARTMENT OF ENERGY

Federal Energy Regulatory Commission

[Docket No. CP21-197-000]

Kern River Gas Transmission Company; Notice of Availability of the Final Environmental Impact Statement for the Proposed; Delta Lateral Project

The staff of the Federal Energy Regulatory Commission (FERC or Commission) has prepared a final environmental impact statement (EIS) for the Delta Lateral Project, proposed by Kern River Gas Transmission Company (Kern River) in the above-referenced docket. Kern River requests authorization to construct, own, and operate an approximately 36 mile-long, 24-inch-diameter pipeline; a delivery meter station; and appurtenant facilities, all located in Millard County, Utah. According to Kern River, the Project purpose is to provide firm transportation service of 140,000 dekatherms of natural gas per day from Opal, Wyoming to the Intermountain Power Project, an electrical generating facility in Delta, Utah. Prior to filing its application, Kern River participated in the Commission's Pre-filing Process for this Project under Docket No. PF20-4-000.

The final EIS assesses the potential environmental effects of the construction and operation of the Delta Lateral Project in accordance with the requirements of the National Environmental Policy Act (NEPA) and responds to comments that were received on the Commission's November 4, 2021 draft EIS.¹ As described in the final EIS, the FERC staff concludes that approval of the Project would result in some adverse environmental impacts; however, with the potential exception of climate change impacts, these impacts would be reduced to less-than-significant levels because of the impact avoidance, minimization, and mitigation measures proposed by Kern River and those recommended by staff in the EIS.

¹ The draft EIS is available on FERC's eLibrary under Accession No. 20211104-3025.

The U.S. Department of the Interior, Bureau of Land Management (BLM), participated as a cooperating agency in the preparation of the EIS. Cooperating agencies have jurisdiction by law or special expertise with respect to resources potentially affected by the proposal and participate in the NEPA analysis. A portion of the Project would be constructed on lands managed by the BLM Fillmore Field Office. The BLM assisted in the preparation of this EIS and may adopt all or portions of the document to satisfy its requirements under NEPA in response to Kern River's application.

The Project would consist of the following specific facilities:

• A 35.84-mile-long, 24-inch-diameter natural gas pipeline;

• a delivery meter station;

• two mainline taps with automated lateral inlet valve assemblies;

• an in-line inspection device launcher and receiver;

• an automated lateral block valve assembly; and

• ancillary facilities.

The Commission mailed a copy of the Notice of Availability of the Final Environmental Impact Statement for the Proposed Delta Lateral Project to federal, state, and local government representatives and agencies; elected officials; environmental and public interest groups; Native American tribes; potentially affected landowners and other interested individuals and groups; and newspapers and libraries in the project areas. The EIS is only available in electronic format. It may be viewed and downloaded from the FERC's website (www.ferc.gov), on the natural gas environmental documents page (https://www.ferc.gov/industries-data/natural-gas/environment/environmental-documents). In addition, the EIS may be accessed by using the eLibrary link on the FERC's website. Click on the eLibrary link (https://elibrary.ferc.gov/eLibrary/search), select “General Search,” and enter the docket number in the “Docket Number” field, excluding the last three digits (i.e., CP21-197). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: February 25, 2022.
Kimberly D. Bose,
Secretary.

[FR Doc. 2022-04535 Filed 3-3-22; 8:45 am]

BILLING CODE 6717-01-P